INTERNATIONAL TRADE COMMISSION

[Investigation Nos. 731-TA-1392-1393 (Final)]

Polytetrafluoroethylene (PTFE) Resin From China and India; Determination

On the basis of the record ¹ developed in the subject investigations, the United States International Trade Commission (“Commission”) determines, pursuant to the Tariff Act of 1930 (“the Act”), that an industry in the United States is not materially injured or threatened with material injury by reason of imports of polytetrafluoroethylene (PTFE) resin from China and India that have been found by the U.S. Department of Commerce (“Commerce”) to be sold in the United States at less than fair value (“LTFV”).² ³ ⁴

¹ The record is defined in sec. 207.2(f) of the Commission's Rules of Practice and Procedure (19 CFR 207.2(f)).

² 83 FR 48590 and 83 FR 48594 (September 26, 2018).

³ Whether the establishment of an industry in the United States is materially retarded is not an issue in these investigations.

⁴ Commissioner Kearns did not participate in these investigations.

Background

The Commission, pursuant to section 735(b) of the Act (19 U.S.C. 1673d(b)), instituted these investigations effective September 28, 2017, following receipt of a petition filed with the Commission and Commerce by The Chemours Company FC LLC, Wilmington, Delaware. Effective February 28, 2018, the Commission established a general schedule for the conduct of the final phase of its investigation on PTFE resin, following a preliminary determination by Commerce that imports of subject PTFE resin were subsidized by the government of India. Notice of the scheduling of the final phase of the Commission's investigations and of a public hearing to be held in connection therewith was given by posting copies of the notice in the Office of the Secretary, U.S. International Trade Commission, Washington, DC, and by publishing the notice in the Federal Register on March 23, 2018 (83 FR 12815). The hearing was held in Washington, DC, on May 17, 2018, and all persons who requested the opportunity were permitted to appear in person or by counsel. The Commission subsequently issued its final negative determination regarding subsidized imports of PTFE from India on July 6, 2018 (83 FR 32150, July 11, 2018). Following notification of final determinations by Commerce that imports of PTFE resin from China and India were being sold at LTFV within the meaning of section 735(b) of the ACT (19 U.S.C. 1673(a)), notice of the supplemental scheduling of the final phase of the Commission's antidumping duty investigations was given by posting copies of the notice in the Office of the Secretary, U.S. International trade Commission, Washington, DC, and by publishing the notice in the Federal Register on October 11, 2018 (83 FR 51501).

The Commission made these determinations pursuant to section 735(b) of the Act (19 U.S.C. 1673d(b)). It completed and filed its determinations in these investigations on November 13, 2018. The views of the Commission are contained in USITC Publication 4841 (November 2018), entitled Polytetrafluoroethylene (PTFE) Resin from China and India: Investigation Nos. 731-TA-1392-1393 (Final).

By order of the Commission.
Issued: November 29, 2018.
Lisa Barton,
Secretary to the Commission.

[FR Doc. 2018-26324 Filed 12-3-18; 8:45 am]

BILLING CODE 7020-02-P